DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology (NIST).

Title: Manufacturing Extension Partnership (MEP) Management Information Reporting.

Form: None.

OMB Approval Number: 0693-0032.

Type of Review: Regular submission.

Burden Hours: 4,048.

Number of Respondents: 60.

Average Hours Per Response: 68 hours.

Needs and Uses: The Manufacturing Extension Partnership (MEP), sponsored by NIST, is a national network of locally-based manufacturing extension centers working with small manufacturers to help improve their productivity, improve profitability and enhance their economic competitiveness.

The collected information will provide the MEP with information regarding the centers' performance in the delivery of technology, and business solutions to US-based manufacturers. The information obtained will assist in determining the performance of the MEP Centers at both a local and national level, as well as, the impact on the national economy. Responses to the collection of information are mandatory per the regulations governing the operation of the MEP Program (15 CFR 290, 291, 292, and H.R. 1274—Section 2).

Affected Public: Business or other for-profit organizations.

Frequency: Annually.

Respondent's Obligation: Required to obtain or retain benefits.

OMB Desk Officer: Jacqueline Zeiher, (202) 395-4638.

Copies of the above information collection proposal can be obtained by calling or writing to Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jacqueline Zeiher, OMB Desk Officer, Room 10202, New Executive Office Building, Washington, DC 20503.

Dated: March 17, 2003.
Gwellnar Banks,
Management Analyst, Office of the Chief Information Officer.

[FR Doc. 03-6776 Filed 3-20-03; 8:45 am]

BILLING CODE 3510-CN-P